NATIONAL SCIENCE FOUNDATION

Sunshine Act Meeting; National Science Board

The National Science Board's Committee on Strategy (CS), pursuant to NSF regulations (45 CFR part 614), the National Science Foundation Act, as amended (42 U.S.C. 1862n-5), and the Government in the Sunshine Act (5 U.S.C. 552b), hereby gives notice of the scheduling of a teleconference for the transaction of National Science Board business, as follows:

Date and Time: Wednesday, October 4, 2017 from 4:00-4:30 p.m. EDT.

Subject Matter: Discussion of potential Committee on Strategy activities through May 2018; and discussion of November 2017 NSB meeting agenda items.

Status: Open.

Location: This meeting will be held by teleconference at the National Science Foundation, 2415 Eisenhower Ave., Alexandria, VA 22314. An audio link will be available for the public. Members of the public must contact the Board Office to request the public audio link by sending an email to nationalsciencebrd@nsf.gov at least 24 hours prior to the teleconference.

Updates and Point of Contact: Please refer to the National Science Board Web site www.nsf.gov/nsb for additional information or updates. Point of contact for this meeting is: Kathy Jacquart, 2415 Eisenhower Ave., Alexandria, VA 22314. Telephone: (703) 292-7000.

Chris Blair,
Executive Assistant to the NSB Office.

[FR Doc. 2017-20973 Filed 9-26-17; 4:15 pm]

BILLING CODE 7555-01-P